DEPARTMENT OF COMMERCE

International Trade Administration

[A-821-817]

Silicon Metal from the Russian Federation: Continuation of Antidumping Duty Order

AGENCY: Import Administration, International Trade Administration, Department of Commerce.

SUMMARY: As a result of the determinations by the Department of Commerce (the Department) and the International Trade Commission (ITC) that revocation of the antidumping duty order on silicon metal from the Russian Federation (Russia), would likely lead to a continuation or recurrence of dumping and material injury to an industry in the United States, the Department is publishing a notice of continuation for this antidumping duty order.

EFFECTIVE DATE: July 16, 2008.

FOR FURTHER INFORMATION CONTACT: Gene Calvert or Paul Matino, AD/CVD Operations, Office 6, Import Administration, International Trade Administration, Department of Commerce, 14th Street and Constitution Avenue, N.W., Washington, D.C. 20230; telephone: (202) 482-3586 or (202) 482-4146, respectively.

SUPPLEMENTARY INFORMATION:

Background

The Department initiated and the ITC instituted sunset reviews of the antidumping duty order on silicon metal from Russia, pursuant to Section 751(c) of the Tariff Act of 1930, as amended (the Act). See Initiation of Five-year (“Sunset”) Reviews, 73 FR 6128 (February 1, 2008) (Notice of Initiation).

As a result of its review, the Department found that revocation of the antidumping duty order would likely lead to a continuation or recurrence of dumping, and therefore notified the ITC of the magnitude of the margins likely to prevail were the order to be revoked. See Silicon Metal from the Russian Federation: Final Results of Expedited Sunset Review of Antidumping Order, 73 FR 31064 (May 30, 2008).

On June 30, 2008, the ITC determined, pursuant to section 751(c) of the Act, that revocation of the antidumping duty order on silicon metal from Russia would likely lead to a continuation or recurrence of material injury to an industry in the United States within a reasonably foreseeable time. See Silicon Metal from Russia, USITC Pub. 4018, Inv. No. 731-TA-991 (Review), June 2008; see also Silicon Metal from Russia, 73 FR 38467 (July 7, 2008).

Scope of the Order

The product covered by this order is silicon metal, which generally contains at least 96.00 percent but less than 99.99 percent silicon by weight. The merchandise covered by this order also includes silicon metal from Russia containing between 89.00 and 96.00 percent silicon by weight, but containing more aluminum than the silicon metal which contains at least 96.00 percent but less than 99.99 percent silicon by weight. Silicon metal currently is classifiable under subheadings 2804.69.10 and 2804.69.50 of the Harmonized Tariff Schedule of the United States (HTSUS). This order covers all silicon metal meeting the above specification, regardless of tariff classification.

Continuation of the Order

As a result of these determinations by the Department and the ITC that revocation of this antidumping duty order would likely lead to a continuation or recurrence of dumping and material injury to an industry in the United States, pursuant to section 751(d)(2) of the Act, the Department hereby orders the continuation of the antidumping duty order on silicon metal from the Russian Federation. U.S. Customs and Border Protection will continue to collect antidumping duty cash deposits at the rates in effect at the time of entry for all imports of subject merchandise.

The effective date of the continuation of this order will be the date of publication in the Federal Register of this notice of continuation. Pursuant to section 751(c)(2) of the Act, the Department intends to initiate the next five-year review of this order not later than 30 days prior to the fifth anniversary of the effective date of continuation, in July 2013.

This five-year (sunset) review and this notice are in accordance with section 751(c) of the Act and published pursuant to section 777(i)(1) of the Act.

Dated: July 9, 2008.
David M. Spooner,
Assistant Secretary for Import Administration.

[FR Doc. E8-16316 Filed 7-15-08; 8:45 am]

BILLING CODE 3510-DS-S